DEPARTMENT OF HOMELAND SECURITY

Federal Emergency Management Agency

[Docket ID FEMA-2015-0001; Internal Agency Docket No. FEMA-B-1522]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: June 16, 2015.
Roy E. Wright,
Deputy Associate Administrator for Insurance and Mitigation, Department of Homeland Security, Federal Emergency Management Agency.

State and county | Location and case No. | Chief executive officer of community | Community map repository | Online location of letter of map revision | Effective date of modification | Community No.
Florida:
Bay | Unincorporated areas of Bay County (15-04-1287P) | The Honorable Robert Majka, Jr., Bay County Manager, 840 West 11th Street, Panama City, FL 32401 | Bay County Government Offices, 707 Jenks Avenue, Suite B, Panama City, FL 32401 | http://www.msc.fema.gov/lomc. | August 24, 2015 | 120004
Charlotte | Unincorporated areas of Charlotte County (15-04-3689P) | The Honorable Bill Truex, Chairman, Charlotte County Board of Commissioners, 18500 Murdock Circle, Port Charlotte, FL 33948 | Charlotte County Community Development Department, 18500 Murdock Circle, Port Charlotte, FL 33948 | http://www.msc.fema.gov/lomc. | August 24, 2015 | 120061
Collier | City of Naples (15-04-4054P) | The Honorable John Sorrey, III, 735 Eighth Street South, Naples, FL 34102 | City Hall, 735 Eighth Street South, Naples, FL 34102 | http://www.msc.fema.gov/lomc. | August 24, 2015 | 125130
Lee | Unincorporated areas of Lee County (14-04-5866P) | The Honorable Brian Hamman, Chairman, Lee County, Board of Commissioners, P.O. Box 398, Fort Myers, FL 33902 | Lee County Community Development Department, 1500 Monroe Street, 2nd Floor, Fort Myers, FL 33901 | http://www.msc.fema.gov/lomc. | August 20, 2015 | 125124
Monroe | City of Key West (15-04-1481P) | The Honorable Craig Cates, Mayor, City of Key West, 3126 Flagler Avenue, Key West, FL 33040 | Planning Department, 605A Simonton Street, Key West, FL 33040 | http://www.msc.fema.gov/lomc. | August 24, 2015 | 120168
Monroe | Unincorporated Areas of Monroe County (15-04-2314P) | The Honorable Danny Kolhage, Mayor, Monroe County, 1100 Simonton Street, Key West, FL 33040 | Department of Planning & Environmental Resources, 2798 Overseas Highway, Marathon, FL 33050 | http://www.msc.fema.gov/lomc. | August 21, 2015 | 125129
Monroe | Unincorporated Areas of Monroe County (15-04-2332P) | The Honorable Danny Kolhage, Mayor, Monroe County, 1100 Simonton Street, Key West, FL 33040 | Department of Planning & Environmental Resources, 2798 Overseas Highway, Marathon, FL 33050 | http://www.msc.fema.gov/lomc. | August 24, 2015 | 125129
Monroe | Unincorporated Areas of Monroe County (15-04-2377P) | The Honorable Danny Kolhage, Mayor, Monroe County, 1100 Simonton Street, Key West, FL 33040 | Department of Planning & Environmental Resources, 2798 Overseas Highway, Marathon, FL 33050 | http://www.msc.fema.gov/lomc. | August 24, 2015 | 125129
Monroe | Unincorporated Areas of Monroe County (15-04-2859P) | The Honorable Danny Kolhage, Mayor, Monroe County, 1100 Simonton Street, Key West, FL 33040 | Department of Planning & Environmental Resources, 2798 Overseas Highway, Marathon, FL 33050 | http://www.msc.fema.gov/lomc. | August 24, 2015 | 125129
Orange | City of Orlando (15-04-1669P) | The Honorable Buddy Dyer, Mayor, City of Orlando, City Hall, 400 South Orange Avenue, Orlando, FL 32802 | City Hall, 400 South Orange Avenue, Orlando, FL 32802 | http://www.msc.fema.gov/lomc. | August 24, 2015 | 120186
Orange | City of Orlando (15-04-4657X) | The Honorable Buddy Dyer, Mayor, City of Orlando, City Hall, 400 South Orange Avenue, Orlando, FL 32802 | City Hall, 400 South Orange Avenue, Orlando, FL 32802 | http://www.msc.fema.gov/lomc. | August 24, 2015 | 120186
St. Johns | Unincorporated areas of St. Johns County (15-04-2346P) | The Honorable Rachael L. Bennett, Chair, St. Johns County Board of Commissioners, 500 San Sebastian View, St. Augustine, FL 32084 | Administration Building, 4040 Lewis Speedway, St. Augustine, FL 32084 | http://www.msc.fema.gov/lomc. | August 25, 2015 | 125147
South Carolina: Oconee | Unincorporated areas of Oconee County (15-04-2201P) | Mr. T. Scott Moulder, Oconee County Administrator, 415 South Pine Street, Walhalla, SC 29691 | Oconee County Administrator, 415 South Pine Street, Walhalla, SC 29691 | http://www.msc.fema.gov/lomc. | August 21, 2015 | 450157
Texas:
Dallas | City of Carrollton (15-06-1351P) | Mr. Leonard Martin, Manager, City of Carrollton, 1945 East Jackson Road, Carrollton, TX 75006 | Engineering Department, 1945 East Jackson Road, Carrollton, TX 75006 | http://www.msc.fema.gov/lomc. | August 24, 2015 | 480167
Harris | Unincorporated areas of Harris County (15-06-0175P) | The Honorable Edward M. Emmett, Harris County Judge, 1001 Preston Street, Suite 911, Houston, TX 77002 | Harris County Permit Office, 10555 Northwest Freeway, Suite 120, Houston, TX 77092 | http://www.msc.fema.gov/lomc. | August 26, 2015 | 480287
Tarrant | City of Fort Worth (14-06-3506P) | The Honorable Betsy Price, Mayor, City of Fort Worth, 1000 Throckmorton Street, Fort Worth, TX 76102 | City Hall, 1000 Throckmorton Street, Fort Worth, TX 76102 | http://www.msc.fema.gov/lomc. | August 3, 2015 | 480596
Walker | City of Huntsville (14-06-3819P) | The Honorable Mac Woodward, Mayor, City of Huntsville, 1212 Avenue M, Huntsville, TX 77340 | Engineering Department, 448 State Highway 75 North, Huntsville, TX 77340 | http://www.msc.fema.gov/lomc. | August 27, 2015 | 480639
Utah:
Salt Lake | City of West Jordan (14-08-1329P) | The Honorable Kim V. Rolfe, Mayor, City of West Jordan, 8000 South Redwood Road, West Jordan, UT 84088 | City Hall, 8000 South Redwood Road, West Jordan, UT 84088 | http://www.msc.fema.gov/lomc. | August 24, 2015 | 490108
Weber | City of North Ogden (14-08-1297P) | The Honorable Brent Taylor, Mayor, City of North Ogden, 505 East 2600 North, North Ogden, UT 84414 | City Hall, 505 East 2600 North, North Ogden, UT 84414 | http://www.msc.fema.gov/lomc. | August 24, 2015 | 490214
Weber | Unincorporated areas of Weber County (14-08-1297P) | The Honorable Kerry Gibson, Chairman, Weber County Commission, 2380 Washington Boulevard, Suite 360, Ogden, UT 84401 | Weber County Government Building, 2380 Washington Boulevard, Ogden, UT 84401 | http://www.msc.fema.gov/lomc. | August 24, 2015 | 490187

[FR Doc. 2015-15822 Filed 6-26-15; 8:45 am]

BILLING CODE 9110-12-P